NATIONAL SCIENCE FOUNDATION

Notice of Permit Modification Received Under the Antarctic Conservation Act of 1978

AGENCY: National Science Foundation.

ACTION: Notice of permit modification request.

SUMMARY: The National Science Foundation (NSF) is required to publish a notice of requests to modify permits issued to conduct activities regulated under the Antarctic Conservation Act of 1978. This is the required notice of a requested permit modification.

DATES: Interested parties are invited to submit written data, comments, or views with respect to this permit application by December 7, 2015. Permit applications may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (ACA 2015-015) to Joseph A. Covi on December 30, 2014. The issued permit allows the applicant to collect sediment samples in ASPA 132 Potter Peninsula, ASPA 150 Ardley Island, and ASPA 171 Narebski Point, Barton Peninsula, all on King George Island, in order to study the viability and biodiversity of dormant zooplankton, and the presence and origin of anthropogenic chemicals in lakes and ephemeral ponds.

Now the applicant proposes a modification to his permit to add ASPA 125 Fildes Peninsula to the permit, as well as to change the sampling regime and number of samples taken. 1 to 2 lakes would be sampled in each ASPA, with 6 sediment grabs from each lake. Up to 2 ephemeral ponds per ASPA would be sampled, with 3 samples per pond, provided sampling is possible without disturbing the surrounding sediment.

Location: ASPA 125: Fildes Peninsula, King George Island, South Shetland Islands.

Dates: January 6-March 1, 2016.

Nadene G. Kennedy,
Polar Coordination Specialist, Division of Polar Programs.

[FR Doc. 2015-28337 Filed 11-5-15; 8:45 am]

BILLING CODE 7555-01-P